DEPARTMENT OF COMMERCE

National Oceanic and Atmospheric Administration

[I.D. 122005C]

Notice of Intent to Prepare an Environmental Impact Statement on Impacts of Research on Steller Sea Lions and Northern Fur Seals Throughout Their Range in the United States

AGENCY: National Marine Fisheries Service (NMFS), National Oceanic and Atmospheric Administration (NOAA), Commerce.

ACTION: Notice of intent to prepare environmental impact statement; extension of comment period.

SUMMARY: On December 28, 2005, the NMFS announced its intent to prepare an Environmental Impact Statement (EIS) to analyze the environmental impacts of administering grants and issuing permits to facilitate research on endangered and threatened Steller sea lions (Eumetopias jubatus) and depleted northern fur seals (Callorhinus ursinus). Written comments were due by February 13, 2006. NMFS has decided to allow additional time for submission of public comments on this action.

DATES: The public comment period for this action has been extended from February 13 to February 25, 2006. Written comments must be postmarked by February 25, 2006.

ADDRESSES: Written comments should be mailed to: Steve Leathery, Chief, Permits, Conservation and Education Division, Office of Protected Resources, National Marine Fisheries Service, 1315 East-West Highway, Room 13705, Silver Spring, MD 20910-3226. Written comments may also be submitted by facsimile to 301-427-2583, or by e-mail at ssleis.comments@noaa.gov.

FOR FURTHER INFORMATION CONTACT: Tammy Adams or Andrew Wright at 301-713-2289.

SUPPLEMENTARY INFORMATION: On December 28, 2005 (70 FR 76780) NMFS announced its intent to prepare an EIS regarding Steller sea lion and northern fur seal research. Background information concerning the EIS can be found in the December 28, 2005, Federal Register notice and is not repeated here. For additional information about Steller sea lions, northern fur seals, the permit process, and this EIS, please visit the project website at: http://www.nmfs.noaa.gov/pr/permits/eis/steller.htm.

Dated: February 9, 2006.
Stephen L. Leathery,
Chief, Permits, Conservation and Education Division, Office of Protected Resources, National Marine Fisheries Service.

[FR Doc. 06-1432 Filed 2-10-06; 3:29 pm]

BILLING CODE 3510-22-S